DEPARTMENT OF HEALTH AND HUMAN SERVICES

Announcement of Meetings of the Secretary's Advisory Committee on National Health Promotion and Disease Prevention Objectives for 2020

AGENCY: Department of Health and Human Services, Office of the Secretary, Office of Public Health and Science, Office of Disease Prevention and Health Promotion.

ACTION: Notice of meeting.

AUTHORITY: 42 U.S.C. 217a, Section 222 of the Public Health Service Act, as amended. The Committee is governed by the provision of Public Law 92-463, as amended (5 U.S.C. Appendix 2), which sets forth standards for the formation and use of advisory committees.

SUMMARY: The U.S. Department of Health and Human Services (HHS) announces a series of Federal advisory committee meetings regarding the national health promotion and disease prevention objectives for 2020, to be held on the Internet (via Webex software). These meetings will be the equivalent of in-person meetings and will be open to the public. The Secretary's Advisory Committee on National Health Promotion and Disease Prevention Objectives for 2020 (Committee) will address issues regarding the nation's health promotion and disease prevention objectives and efforts to develop goals and objectives to improve the health status and reduce health risks for Americans by the year 2020. The Committee will provide to the Secretary of Health and Human Services advice and consultation for developing and implementing the next iteration of national health promotion and disease prevention goals and objectives and provide recommendations for initiatives to occur during the initial implementation phase of the goals and objectives. HHS will use the recommendations to inform the development of the national health promotion and disease prevention objectives for 2020 and the process for implementing the objectives. The intent is to develop and launch objectives designed to improve the health status and reduce health risks for Americans by the year 2020.

DATES: The Committee will meet on the Internet at the following times: March 26, 2009, from 12 p.m. to 2 p.m. Eastern Daylight Time (EDT); April 20, 2009, from 12 p.m. to 2 p.m. EDT; and May 15, 2009, from 1 p.m. to 3 p.m. EDT.

ADDRESSES: The meetings will be held via the Internet using WebEx software. For detailed instructions about how to make sure that your computer's operating system and browser are set up for WebEx, please visit the “Secretary's Advisory Committee” page of the Healthy People Web site at: http://www.healthypeople.gov/hp2020/advisory/default.asp.

FOR FURTHER INFORMATION CONTACT: Emmeline Ochiai, Designated Federal Officer, Secretary's Advisory Committee on National Health Promotion and Disease Prevention Objectives for 2020, U.S. Department of Health and Human Services, Office of Public Health and Science, Office of Disease Prevention and Health Promotion, 1101 Wootton Parkway, Room LL-100, Rockville, MD 20852, (240) 453-8259 (telephone), (240) 453-8281 (fax). Additional information is available on the Internet at http://www.healthypeople.gov.

SUPPLEMENTARY INFORMATION: The names of the 13 members of the Secretary's Advisory Committee on National Health Promotion and Disease Prevention Objectives for 2020 are available at http://www.healthypeople.gov.

Purpose of Meeting: Every 10 years, through the Healthy People initiative, HHS leverages scientific insights and lessons from the past decade, along with the new knowledge of current data, trends, and innovations to develop the next iteration of national health promotion and disease prevention objectives. Healthy People provides science-based, 10-year national objectives for promoting health and preventing disease. Since 1979, Healthy People has set and monitored national health objectives to meet a broad range of health needs, encourage collaborations across sectors, guide individuals toward making informed health decisions, and measure the impact of our prevention and health promotion activities. Healthy People 2020 will reflect assessments of major risks to health and wellness, changing public health priorities, and emerging technologies related to our nation's health preparedness and prevention.

Public Participation at Meeting: Members of the public are invited to listen to the online Advisory Committee meetings. There will be no opportunity for oral public comments during the online Secretary's Advisory Committee on National Health Promotion and Disease Prevention Objectives for 2020 meetings. Written comments are welcome throughout the development process of the national health promotion and disease prevention objectives for 2020. They can be submitted through the Healthy People Web site at: http://www.healthypeople.gov/hp2020/comments/ or they can be e-mailed to HP2020@hhs.gov. Please note that the public comment Web site will be updated throughout the Healthy People development process, so people should return to the site frequently and provide their input.

To listen to the Committee meetings, individuals must pre-register to attend the meetings at the Healthy People Web site located at http://www.healthypeople.gov. Participation in the meetings is limited. Registrations will be accepted until maximum WebEx capacity is reached and must be completed by: 9 a.m. EDT on March 26, 2009, for the March 26, 2009 meeting; 9 a.m. EDT on April 20, 2009, for the April 20, 2009 meeting; and 9 a.m. EDT on May 15, 2009, for the May 15, 2009 meeting. A waiting list will be maintained should registrations exceed WebEx capacity. Individuals on the waiting list will be contacted as additional space becomes available.

Registration questions may be directed to Hilary Scherer at HP2020@norc.org (e-mail), (301) 634-9374 (phone) or (301) 634-9301 (fax).

Dated: March 4, 2009.
Carter Blakey,
Lead, Community Strategies Team, Office of Disease Prevention and Health Promotion.

[FR Doc. E9-4982 Filed 3-9-09; 8:45 am]

BILLING CODE 4150-32-P